ENVIRONMENTAL PROTECTION AGENCY

[ER-FRL-9022-2]

Environmental Impact Statements; Notice of Availability

Responsible Agency: Office of Federal Activities, General Information (202) 564-7146 or http://www2.epa.gov/nepa.

Weekly receipt of Environmental Impact Statements (EISs)

Filed 07/20/2015 Through 07/24/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150203, Final, NIH, MD,NIH Bethesda Chilled Water Systems Improvements, Review Period Ends: 08/31/2015, Contact: Valerie Nottingham 301-496-7775.

EIS No. 20150204, Final, BOP, KY,U.S. Penitentiary and Federal Prison Camp, Review Period Ends: 08/31/2015, Contact: Issac Gaston 202-514-6470.

EIS No. 20150205, Final, NRC, IL,Generic—License Renewal of Nuclear Plants, Supplement 54, Regarding Byron Station, Units 1 and 2, NUREG-1437, Review Period Ends: 08/31/2015, Contact: Lois M. James 301-415-3306.

EIS No. 20150206, Final, USACE, CA,Elverta Specific Plan Project, Review Period Ends: 08/31/2015, Contact: Marc A. Fugler 916-557-5255.

EIS No. 20150207, Draft, DOE, NH,Northern Pass Transmission Line Project, Comment Period Ends: 10/29/2015, Contact: Brian Mills 202-586-8267.

Amended Notices

EIS No. 20150088, Draft, USMC, Other,Commonwealth of the Northern Mariana Islands (CJMT) Joint Military Training, Comment Period Ends: 08/17/2015, Contact: Lori Robertson 808-472-1409, Revision to FR Notice Published 05/15/2015; Extending the Comment Period from 08/03/2015 to 08/17/2015.

EIS No. 20150196, Draft Supplement, BR, CA,Bay Delta Conservation Plan/California Water Fix, Comment Period Ends: 10/30/2015, Contact: Michelle Banonis 916-930-5676, Revision to FR Notice Published 07/17/2015; Extending the Comment Period from 08/31/2015 to 10/30/2015.

Dated: July 28, 2015.
Dawn Roberts,
Management Analyst, NEPA Compliance Division, Office of Federal Activities.

[FR Doc. 2015-18842 Filed 7-30-15; 8:45 am]

BILLING CODE 6560-50-P